NATIONAL AERONAUTICS AND SPACE ADMINISTRATION

[Notice (05-090)]

Notice of Prospective Patent License

AGENCY: National Aeronautics and Space Administration.

ACTION: Notice of prospective patent license.

SUMMARY: NASA hereby gives notice that Turfgrass Management, Inc., a Nevada corporation, has applied for a partially exclusive license to practice the inventions described and claimed in U.S. Patent Numbers 5,433,766 (“Slow-Release Fertilizer”) and 5,451,242 (“Active Synthetic Soil”). These patents are assigned to the United States of America as represented by the Administrator of the National Aeronautics and Space Administration. Written objections to the prospective grant of a license should be sent to the Johnson Space Center.

DATES: Responses to this Notice must be received within 15 days from date of publication in the Federal Register.

FOR FURTHER INFORMATION CONTACT: Theodore Ro, Patent Attorney, NASA Johnson Space Center, Mail Stop AL, Houston, TX 77058-8452; telephone (281) 244-7148.

Dated: May 5, 2005.
Keith T. Sefton,
Deputy General Counsel, Administration and Management.

[FR Doc. 05-9937 Filed 5-17-05; 8:45 am]

BILLING CODE 7510-13-P